DEPARTMENT OF LABOR

Employment and Training Administration

[NAFTA—5006]

Weyerhaeuser, Longview, Washington; Amended Certification Regarding Eligibility To Apply for NAFTA-Transitional Adjustment Assistance

In accordance with section 250(A), subchapter D, chapter 2, Title II, of the Trade Act of 1974, as amended (19 U.S.C. 2273), the Department of Labor issued a Certification of Eligibility to Apply for NAFTA Transitional Adjustment Assistance on August 30, 2001, applicable to workers of Weyerhaeuser, Fine Paper Division, Longview, Washington. The notice was published in the Federal Register on September 11, 2001 (66 FR 47242).

At the request of the Association of Western Pulp and Paper Workers Union, the Department reviewed the certification for workers of the subject firm.

New findings show that some workers of the subject firm who were engaged in the production of fine paper, but not part of the Fine Paper Division, were excluded from the certification.

Based on these findings, the Department is amending the certification to cover all workers of Weyerhaeuser, Longview Fine Paper, engaged in activities related tot he production of fine paper.

The intent of the Department's certification is to include all workers of Weyerhaeuser, Longview Fine Paper, Longview, Washington adversely affected by a shift of production of fine paper (uncoated free sheet paper rolls and folio paper) to Canada.

The Department is amending the certification determination to properly reflect this matter.

The amended notice applicable to NAFTA-05006 is hereby issued as follows:

“All workers at Weyerhaeuser, Longview, Washington who became totally or partially separated from employment on after June 18, 2000, through August 30, 2003, are eligible to apply for NAFTA-TAA under Section 250 of the Trade Act of 1974.”

Signed at Washington, DC, this 1st day of May, 2002.
Edward A. Tomchick,
Director, Division of Trade Adjustment Assistance.

[FR Doc. 02-13947 Filed 6-3-02; 8:45 am]

BILLING CODE 4510-30-P